DEPARTMENT OF TRANSPORTATION

Federal Highway Administration

Environmental Impact Statement: Anchorage, Alaska

AGENCY: Federal Highway Administration (FHWA), DOT.

ACTION: Notice of intent.

SUMMARY: The FHWA is issuing this notice to advise the public that an Environmental Impact Statement will be prepared for the proposed Seward Highway to Glenn Highway (Highway-to-Highway) project in Anchorage, Alaska.

FOR FURTHER INFORMATION CONTACT: Michael Vanderhoof, Division Environmental Coordinator, Federal Highway Administration, Alaska Division, 709 West 9th Street, Room 851, Juneau, AK 99802, Phone: 907-586-7464; Fax: 907-586-7420; e-mail: michael.vanderhoof@dot.gov or Jerry Ruehle, Central Region Environmental Coordinator; Alaska Department of Transportation and Public Facilities; 4111 Aviation Drive, Anchorage, AK 99502; Phone: (907) 269-0534; Fax: (907) 243-6927; e-mail: jerry.ruehle@alaska.gov.

SUPPLEMENTARY INFORMATION: The FHWA and the Alaska Department of Transportation and Public Facilities in cooperation with the Municipality of Anchorage, propose to improve the connection between the Seward and Glenn Highways (State Route Number 1) in Anchorage, Alaska. The facilities needing improvement are part of the National Highway System (NHS) and are designated as Interstate Highway Routes. The proposed project is identified in the adopted Anchorage Metropolitan Area Transportation Solutions' “Anchorage Bowl Long Range Transportation Plan” (LRTP) (2007). The LRTP conducted extensive public involvement and studied the existing transportation problems, planned development patterns, and resultant transportation needs in Anchorage which led to identification of the Highway-to-Highway project in the plan.

The Highway-to-Highway improvements are considered necessary to address capacity, travel demand, safety, and system linkage to major destinations and freight mobility on the existing Seward Highway and Glenn Highway NHS routes. These NHS routes provide access to major employment centers in downtown and midtown Anchorage and major intermodal port, rail, and airport facilities. The Seward and Glenn Highway NHS routes are divided highways coming into the center of Anchorage, which transition to urban arterial streets with connecting roads, stop lights, and commercial and residential access. The urban arterial segments of the routes are characterized by high travel demand, congestion, and resulting safety issues caused by traffic levels that have exceeded the capacity of the existing arterial street network.

Alternatives under consideration include: (1) Taking no action; (2) transportation system management and transportation demand management; (3) transit; (4) connecting the Seward Highway and Glenn Highways on a new alignment; (5) upgrading the Seward Highway and Glenn Highway NHS routes on their existing alignments; and (6) multi-modal options combining elements of alternatives 2 through 5. Incorporated into and studied with the various build alternatives will be design variations of facility type, number of lanes, grade, and alignment.

Letters describing the proposed action and soliciting comments will be sent to appropriate Federal, State, and local agencies, and to private organizations and citizens who have previously expressed or are known to have interest in this project. Coordination with Cooperating and Participating Agencies and the public will be conducted in accordance with Section 6002 of the Safe, Accountable, Flexible, Efficient Transportation Equity Act: A Legacy for Users (SAFETEA-LU), 23 U.S.C. 139. A coordination plan will be prepared to describe the EIS process, identify roles and responsibilities, and explain the project schedule and key coordination points. A series of public meetings will be held in Anchorage over the course of the project. Formal scoping meetings will be held in Anchorage on July 29th and 31st 2008 and an agency scoping meeting will be held in mid-August. While the project team will take comments throughout the development of the project, formal scoping comments should be submitted within 90 days of this notice.

Additional meetings and other opportunities to provide input on the project will be provided as the project develops. A public hearing will be held on the draft EIS. The draft EIS will be available for public and agency review and comment prior to the public hearing. Public notice in the Anchorage Daily News will be given of the time and place for all public meetings and hearings. Project information can be found on the project Web site at http://www.highway2highway.com.

To ensure that the full range of issues related to this proposed action are addressed and all significant issues identified, comments and suggestions are invited from all interested parties. Comments or questions concerning this proposed action and the EIS should be directed to FHWA at the address above.

(Catalog of Federal Domestic Assistance Program Number 20.205, Highway Planning and Construction. The regulations implementing Executive Order 12372 regarding intergovernmental consultation on Federal programs and activities apply to this program)

Issued on: July 7, 2008.
David C. Miller,
Division Administrator, Alaska Division, FHWA, Juneau, Alaska.

[FR Doc. E8-15770 Filed 7-10-08; 8:45 am]

BILLING CODE 4910-22-P